DEPARTMENT OF ENERGY

Federal Energy Regulatory Commission

[Project No. 12690-003]

Public Utility District No. 1 of Snohomish County, WA; Notice of Teleconference

November 10, 2010.

a. Date and Time of Meeting: Monday, November 15, 2010 starting at 12 p.m. and ending by 2 p.m. (Eastern Standard Time).

b. FERC Contact: David Turner, (202) 502-6091 or david.turner@ferc.gov.

c. Purpose of Meeting: Commission staff will meet with the Snohomish County Public Utility District (District) to clarify the Commission's August 6, 2010, request for additional information on the District's draft license application for the Admiralty Inlet Pilot Tidal Project, which would be located in the Puget Sound, in Washington.

d. If you would like to attend the meeting or have any questions, contact David Turner via e-mail by November 11, 2010.

Kimberly D. Bose,
Secretary.

[FR Doc. 2010-29060 Filed 11-17-10; 8:45 am]

BILLING CODE 6717-01-P